DEPARTMENT OF COMMERCE

International Trade Administration

Overseas Trade Mission

July 14-19, 2003.

AGENCY: International Trade Administration, Department of Commerce.

ACTION: Notice.

SUMMARY: The Department of Commerce invites U.S. companies to apply to participate in the below described overseas trade mission. For a more complete description of the trade mission, obtain a copy of the mission statement from the contact officer indicated for this mission below.

Business Development Mission to Romania and Bulgaria

Bucharest and Sofia

Deputy Secretary of Commerce, Samuel Bodman, with Assistant Secretary and Director General of the U.S. and Foreign Commercial Service, Maria Cino, and Assistant Secretary of Commerce for Market Access and Compliance, William Lash, will lead a senior-level business development mission to help U.S. companies explore business opportunities in Romania and Bulgaria. The delegation will include 10-15 U.S.-based senior executives of small, medium and large U.S. firms representing, but not limited to, the following sectors: automotive parts, building products, information technology, telecommunications, defense industry, energy, medical products, environmental technologies, and tourism infrastructure.

Recruitment closes on May 9, 2003.

FOR FURTHER INFORMATION CONTACT: Mr. Matthew Wright, U.S. Department of Commerce, 1401 Constitution Avenue, NW., Room 2012, Washington, DC 20230, telephone 202-482-2567, fax 202-482-0178, or e-mail Matthew.Wright@mail.doc.gov.

SUPPLEMENTARY INFORMATION:

Goals for the Mission

The mission will further both U.S. commercial policy objectives and advance specific business interests. It is intended to: assist individual U.S. companies to pursue business opportunities by introducing them to government decision-making officials and to potential business partners; assist new-to-market firms to evaluate the market potential for their products and gain an understanding of how to operate successfully in Romania and Bulgaria; enhance the dialogue between government and industry on issues affecting the development of commercial relations; promote U.S. and Romanian and Bulgarian trade and investment and, as a result, contribute to the political and economic stability of important American allies; and assist U.S. companies to take advantage of opportunities arising from NATO accession.

Scenario for the Mission

American Embassy officials will provide a detailed briefing on the economic, commercial and political climate, and participants will receive individual counseling on their specific interests from the in-country U.S. Commercial Service industry specialists. Meetings will be arranged as appropriate with senior government officials and potential business partners. Networking events also will be organized to provide opportunities to meet Romanian and Bulgarian business and government representatives, as well as U.S. business people living and working in Romania and Bulgaria. The tentative trip itinerary is as follows: July 14, arrive Bucharest; July 15-16, one-on-one business meetings in Bucharest and evening travel to Sofia; July 17-18, one-on-one business meetings in Sofia. The precise schedule will depend in part on the availability of local government and business officials and the specific goals of the mission participants.

Recruitment and selection of private sector participants for this mission will be conducted according to the Statement of Policy Governing Department of Commerce Overseas Trade Missions dated March 3, 1997.

Dated: April 11, 2003.
Carlos Poza,
Deputy Director General, U.S. & Foreign Commercial Service.

[FR Doc. 03-9421 Filed 4-16-03; 8:45 am]

BILLING CODE 3510-FP-P